Proclamation 7414 of March 5, 2001

Greek Independence Day: A National Day of Celebration of Greek and American Democracy, 2001

By the President of the United States of America

A Proclamation

Our democratic system of government traces its earliest roots back to ancient Greece. The leaders of the Revolution and the Framers of the Constitution often drew inspiration from Athenian lawgivers and philosophers and called the Greek example to mind as they sought to build the new nation on the foundations of representative government and free political discourse. The Greeks of 1821 drew inspiration, in turn, from the ideals and institutions of the fledgling United States as they waged their own struggle for liberty. In 2001, a vibrant Greek democracy serves once again as an inspiration to its neighbors and the world.

Our two countries have stood together as friends and allies from the time America embraced modern Greece's struggle for independence 180 years ago. We fought together in every major war of the last century: World War I through the Persian Gulf. For more than 50 years, we have worked together in NATO: first to keep the peace in Europe and now to build peace and stability in the Balkans. We look forward to continued cooperation as we celebrate the Games of the XXVIII Olympiad together in Athens in 2004. Our alliance with Greece remains strong, and its future is promising.

Greeks and Americans share a love of freedom, liberty, and individual rights. The friendship between our two Nations is based on mutual respect, a commitment to common goals, and the sharing of fundamental values. Ties of blood and kinship also unite us: the modern community of approximately 3 million Greek Americans has established a natural and enduring bridge between our nations. Today, we take special note of those citizens and thank them for their innumerable contributions to our Nation's cultural, economic, and political heritage.

NOW, THEREFORE, I, GEORGE W. BUSH, President of the United States of America, by virtue of the authority vested in me by the Constitution and laws of the United States, do hereby proclaim March 25, 2001, as “Greek Independence Day: A National Day of Celebration of Greek and American Democracy.” I call upon all the people of the United States to observe this day with appropriate ceremonies and activities.

IN WITNESS WHEREOF, I have hereunto set my hand this fifth day of March, in the year of our Lord two thousand one, and of the Independence of the United States of America the two hundred and twenty-fifth.

B

[FR Doc. 01-6044

Filed 3-7-01; 8:45 am]

Billing code 3195-01-P